DEPARTMENT OF COMMERCE

Submission for OMB Review; Comment Request

The Department of Commerce has submitted to the Office of Management and Budget (OMB) for clearance the following proposal for collection of information under the emergency provisions of the Paperwork Reduction Act (44 U.S.C. Chapter 35).

Agency: International Trade Administration (ITA).

Title: Interim Procedures for Considering Requests under the Commercial Availability Provision of the United States-Korea Free Trade Agreement.

OMB Control Number: None.

Type of Request: Emergency submission (new information collection).

Burden Hours: 89.

Number of Respondents: 16.

Average Hours per Response: 8 hours for Request for Commercial Availability Determination; 2 hours for Response to a Request; and 1 hour for Rebuttal.

Needs and Uses: The United States and Korea negotiated the U.S.-Korea Free Trade Agreement (the “Agreement”), which entered into force on March 15, 2012. Subject to the rules of origin in Annex 4-A of the Agreement, pursuant to the provisions of the Agreement, textile and apparel articles must contain fiber, yarn, and fabric produced in Korea or the United States to receive duty-free tariff treatment. Appendix 4-B-1 of the Agreement will contain a list of specific fiber, yarn, or fabric that either importing Party determined, based on information supplied by interested entities, that the fiber, yarn, or fabric is not available in commercial quantities in a timely manner in its territory, or if no interested entity objects to the request. Textile and apparel articles containing these fibers, yarns, or fabrics would also be entitled to duty-free or preferential duty treatment despite not being produced in Korea or the United States.

The list of commercially unavailable fibers, yarns, and fabrics may be changed pursuant to the commercial availability provision in Chapter 4, Annex 4-B, Paragraphs 1-13 of the Agreement. Under this provision, interested entities from the United States or Korea have the right to request that a specific fiber, yarn, or fabric be added to, or removed from, the list of commercially unavailable fibers, yarns, and fabrics in Appendix 4-B-1.

Section 202(o)(3) of the Act provides that the President may modify the list of fibers, yarns and fabrics in Appendix 4-B-1 by determining whether additional fibers, yarns, or fabrics are not available in commercial quantities in a timely manner in the United States, and that the President will issue procedures governing the submission of requests and providing an opportunity for interested entities to submit comments. The President delegated the responsibility for publishing the procedures and administering commercial availability requests to the Committee for the Implementation of Textile Agreements (CITA), which issues procedures and acts on requests through the U.S. Department of Commerce, Office of Textiles and Apparel (OTEXA). OTEXA was unable to publish these procedures earlier and is requesting an emergency review of the information collection and procedures from the Office of Management and Budget.

CITA must collect information about fiber, yarn or fabric technical specifications and the production capabilities of U.S. textile producers to determine whether certain fibers, yarns, or fabrics are available in commercial quantities in a timely manner in the United States, subject to Section 202(o)(3) of the U.S.-Korea Free Trade Agreement Implementation Act.

Affected Public: Business or other for-profit organizations.

Frequency: On occasion.

Respondent's Obligation: Voluntary.

OMB Desk Officer: Wendy Liberante, (202) 395-3647.

Copies of the above information collection proposal can be obtained by calling or writing Jennifer Jessup, Department Paperwork Clearance Officer, (202) 482-0336, Department of Commerce, Room 6616, 14th and Constitution Avenue NW., Washington, DC 20230 or via the Internet at JJessup@doc.gov.

Written comments and recommendations for the proposed information collection should be sent by April 16, 2012 to Wendy Liberante, OMB Desk Officer, Fax number (202) 395-5167 or via the Internet at Wendy_L._Liberante@omb.eop.gov.

Dated: March 14, 2012.
Gwellnar Banks,
Management Analyst, Office of the Chief Information Officer.

[FR Doc. 2012-6624 Filed 3-19-12; 8:45 am]

BILLING CODE 3510-FP-P